DEPARTMENT OF VETERANS AFFAIRS

[OMB Control No. 2900-NEW (Foot (Including Flatfeet (pes planus)) Conditions Disability Benefits Questionnaire)]

Special Notice; Correction

AGENCY: Veterans Benefits Administration, Department of Veterans Affairs.

ACTION: Notice; correction.

SUMMARY: The Department of Veterans Affairs (VA) published a collection of information notice in a Federal Register on November 15, 2013, that omitted 60-day Federal Register Notice information. This document corrects the errors by adding the Federal Register notice information.

FOR FURTHER INFORMATION CONTACT: Crystal Rennie, Enterprise Records Service (005R1B), Department of Veterans Affairs, 810 Vermont Avenue NW., Washington, DC 20420, at (202) 632-7492.

Correction

In FR Doc. 2013-27396, published on November 15, 2013, at 78FR68908, make the following corrections.

On page 68908, in the first column, under the SUPPLEMENTARY INFORMATION's, above the “Affected Public” section, add the following information:

“An agency may not conduct or sponsor, and a person is not required to respond to a collection of information unless it displays a currently valid OMB control number. The Federal Register Notice with a 60-day comment June 10, 2013, at pages 34708-34709.”

Dated: December 11, 2013.
By direction of the Secretary.
Crystal Rennie,
VA Clearance Officer, U.S. Department of Veterans Affairs.

[FR Doc. 2013-29805 Filed 12-13-13; 8:45 am]

BILLING CODE 8320-01-P